SMALL BUSINESS ADMINISTRATION

[Disaster Declaration #11012 and #11013]

Ohio Disaster Number OH-00012

AGENCY: Small Business Administration.

ACTION: Amendment 1.

SUMMARY: This is an amendment of the President declaration of a major disaster for the State of Ohio (FEMA-1720-Dr), dated 08/27/2007.

Incident: Severe Storms, Flooding, and Tornadoes.

Incident Period: 08/20/2007 and continuing through 08/28/2007.

Effective Date: 08/28/2007.

Physical Loan Application Deadline Date: 10/26/2007.

EIDL Loan Application Deadline Date: 05/27/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Ohio, dated 08/27/2007 is hereby amended to establish the incident period for this disaster as beginning 08/20/2007 and continuing through 08/28/2007.

All other information in the original declaration remains unchanged.

(Catalog of Federal Domestic Assistance Numbers 59002 and 59008)

Herbert L. Mitchell,
Associate Administrator for Disaster Assistance.

[FR Doc. 07-4456 Filed 9-14-07; 8:45 am]

BILLING CODE 8025-01-M